DEPARTMENT OF ENERGY

Federal Energy Regulatory Commission

[Project No. 13424-000; Project No. 13437-000]

Lock+™ Hydro Friends Fund II, LLC; FFP Iowa 2, LLC; Notice of Preliminary Permit Applications Accepted for Filing and Soliciting Comments, Motions To Intervene, and Competing Applications

October 9, 2009.

Lock+™ Hydro Friends Fund II, LLC and FFP Iowa 2, LLC filed applications, pursuant to section 4(f) of the Federal Power Act, proposing to study the feasibility of hydropower at the U.S. Army Corps of Engineers Lock & Dam No. 13 located on the Mississippi River in Clinton County, Iowa, and Fulton County, Illinois.

The proposed projects would be integral with: (1) The existing U.S. Army Corps of Engineers Lock & Dam No. 13 comprised of an 1,066-foot-long gated dam section with 3 roller gates and 10 Taintor gates, and a 600 foot-long lock, and; (2) an existing 33-mile-long reservoir extending from River Mile 522 to River Mile 556 at a normal pool elevation of 583.0 feet mean sea level.

The Lock+TM Hydro Friends Fund II, LLC's proposed project would consist of: (1) Eight generating units installed in a new door to be installed in the auxiliary lock with a total capacity of 4,963 kilowatts; and (2) a new 500-foot-long, 4.16-kilovolt transmission line connected to an existing above ground local distribution system. The project would have an estimated average annual generation of 41.3 gigawatt-hours.

Applicant Contact: Mr. Wayne F. Krouse, Hydro Friends Fund IL LLC, 5090 Richmond Avenue, #390, Houston, TX 77056, phone (877) 556-6566 x709.

The FFP Iowa 2, LLC's proposed project would consist of: (1) 18 Very Low Head (VHL) generating units and 80 hydrokinetic generating units totaling 20.2 megawatts (MW) installed capacity; (2) a new 6,500-foot-long 69-kilovolt transmission line connected to an existing above ground local distribution system; and (3) appurtenant facilities. The project would have an estimated average annual generation of 99.5 gigawatt-hours. This project would be located on the gated portion of the dam and below the dam, not at the auxiliary lock.

Applicant Contact: Mr. Daniel R. Irvin, Free Flow Power Corporation, 33 Commercial Street, Gloucester, MA 01930, phone (978) 252-7631.

FERC Contact: Michael Spencer, (202) 502-6093.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-13392) in the docket number field to access the document. For assistance, call toll-free 1-866-208-3372.

Kimberly D. Bose,
Secretary.

[FR Doc. E9-25017 Filed 10-16-09; 8:45 am]

BILLING CODE 6717-01-P